DEPARTMENT OF COMMERCE

Patent and Trademark Office

37 CFR Parts 2 and 7

[Docket No. PTO-T-2016-0005]

RIN 0651-AD08

Trademark Fee Adjustment; Correction

AGENCY: United States Patent and Trademark Office, Commerce.

ACTION: Final rule; correction.

SUMMARY: This document contains corrections to tables included in the preamble of the final rule implementing changes to trademark fees published in the Federal Register of Friday, October 21, 2016.

DATES: This rule is effective on January 14, 2017.

FOR FURTHER INFORMATION CONTACT: Catherine Cain, Office of the Deputy Commissioner for Trademark Examination Policy, by email at TMPolicy@uspto.gov, or by telephone at (571) 272-8946.

SUPPLEMENTARY INFORMATION: Need for Correction: As published, the regulatory and explanatory text in the final rule implementing changes to trademark fees (81 FR 72694; October 21, 2016) are correct. However, certain tables included in the preamble contain minor errors. In the tables entitled “Fees for Paper Filings” and “New Fees for Extensions of Time at the TTAB,” the descriptions for certain fees listed were mistakenly transposed. In the table entitled “Other Trademark-Processing Fees [Extension of time to file a statement of use],” a CFR citation contained a typographical error. Good cause exists to issue this rule without prior notice and opportunity for comment as the corrections are non-substantive and are being implemented to avoid inconsistencies and any confusion that may occur when comparing the items in the tables with the regulatory text. The USPTO corrects the errors as discussed below.

In FR Doc. 2016-25506, appearing on page 72694 in the Federal Register of Friday, October 21, 2016, make the following corrections:

1. On page 72697, in the table entitled “Fees for Paper Filings,” revise the following:

a. In the entry for 2.6(a)(22)(i), the Description is corrected to read “Filing a Request for an Extension of Time to File a Notice of Opposition under § 2.102(c)(1)(ii) or (c)(2) on Paper,” and

b. In the entry for 2.6(a)(23)(i), the Description is corrected to read “Filing a Request for an Extension of Time to File a Notice of Opposition under § 2.102(c)(3) on Paper.”

2. On page 72700, the table entitled “Other Trademark-Processing Fees [Extension of time to file a statement of use]” is corrected to read as follows:

Other Trademark-Processing Fees
[Extension of time to file a statement of use]
37 CFR | Fee code | Description | Current fee | Final rule fee | Change
2.6(a)(4)(i) | 6004 | Filing a Request under § 1(d)(2) of the Act for a Six-Month Extension of Time for Filing a Statement of Use under § 1(d)(1) of the Act on Paper, per Class | $150 | $225 | $75
2.6(a)(4)(ii) | 7004 | Filing a Request under § 1(d)(2) of the Act for a Six-Month Extension of Time for Filing a Statement of Use under § 1(d)(1) of the Act through TEAS, per Class | 150 | 125 | (25)

3. On page 72701, the table entitled “New Fees for Extensions of Time at the TTAB” is corrected to read as follows:

New Fees for Extensions of Time at the TTAB
37 CFR | Fee code | Description | Current fee | Final rule fee | Change
2.6(a)(22)(i) | New | Filing a Request for an Extension of Time to File a Notice of Opposition under § 2.102(c)(1)(ii) or (c)(2) on Paper |  | $200 | n/a
2.6(a)(22)(ii) | New | Filing a Request for an Extension of Time to File a Notice of Opposition under § 2.102(c)(1)(ii) or (c)(2) through ESTTA | n/a | 100 | n/a
2.6(a)(23)(i) | New | Filing a Request for an Extension of Time to File a Notice of Opposition under § 2.102(c)(3) on Paper | n/a | 300 | n/a
2.6(a)(23)(ii) | New | Filing a Request for an Extension of Time to File a Notice of Opposition under § 2.102(c)(3) through ESTTA | n/a | 200 | n/a

Dated: October 28, 2016.
Michelle K. Lee,
Under Secretary of Commerce for Intellectual Property and Director of the United States Patent and Trademark Office.

[FR Doc. 2016-26684 Filed 11-4-16; 8:45 am]

BILLING CODE 3510-16-P